DEPARTMENT OF TRANSPORTATION

Federal Aviation Administration

14 CFR Part 139

[Docket No. FAA-2000-7479; Amendment Nos. 121-304, 135-94]

RIN 2120-AG96

Certification of Airports

AGENCY: Federal Aviation Administration (FAA), DOT.

ACTION: Final rule; technical correction.

SUMMARY: The Federal Aviation Administration (FAA) is making a minor technical change to a final rule published in the Federal Register on February 10, 2004 (69 FR 6380). That final rule revises the airport certification regulations and establishes certification requirements for certain airports. This technical change substitutes for the word “shall” the word “must” to reflect the current legal practice for mandatory language. It also provides consistent use of this word within the part. This correction is not a substantive change.

Effective Dates: These technical changes are effective on June 9, 2004.

FOR FURTHER INFORMATION CONTACT: Linda Bruce; Airport Safety and Operations Division; Office of Airport Safety and Standards; FAA; 800 Independence Avenue, SW.; Washington, DC 20591; telephone (202) 267-8553; or e-mail Linda.Bruce@faa.gov.

SUPPLEMENTARY INFORMATION: The FAA published in the Federal Register of February 10, 2004 (69 FR 6380), a final rule revising the airport certification regulations and establishing certification requirements for airports serving scheduled air carrier operations in aircraft designed for more than 9 passenger seats, but less than 31 passenger seats. The final rule also amends the air carrier operation regulations to conform with changes to airport certification requirements. The final rule is necessary to ensure safety in air transportation at all certificated airports and becomes effective June 9, 2004.

In 14 CFR part 139, the final rule establishes a large number of requirements applicable to both airport and aircraft operators. The final rule uses both the word “shall” and the word “must” to establish the requirements. For example, compare final § 139.907(a)(3) “The full-strength surfaces shall be adequately compacted * * *.” with final § 139.907(a)(4) “The full-strength surfaces must have no holes * * *.” The FAA is concerned that two different ways of establishing requirements may suggest separate meanings. It is simpler and clearer to establish requirements in a consistent manner. For this reason, we are using this technical correction to change all requirements to a consistent format. We have chosen to replace “shall” with “must” to avoid possible confusion over the meaning of “shall.” This action is consistent with the advice of legal drafting authorities. See Bryan A. Garner, A Dictionary of Modern Legal Usage, 939-42 (2nd ed. 1995) and Richard C. Wydick, Plain English for Lawyers, 66-67 (4th ed. 1998). This change is editorial in nature. We intend no substantive changes to any of the requirements established by the final rule. This correction does not impose any additional requirements on operators affected by these regulations.

Justification for Expedited Rulemaking

Section 553 of the Administrative Procedure Act, 5 U.S.C. 553(b)(B), provides that, when an agency for good cause finds that notice and public procedure are impracticable, unnecessary, or contrary to the public interest, the agency may issue a rule without providing notice and an opportunity for public comment. We have determined that there is good cause for making today's action final without prior proposal and opportunity for comment because the changes to the rule are minor technical corrections and do not change the requirements of the rule. Thus, notice and public procedure are unnecessary.

List of Subjects in 14 CFR Part 139

Air carriers, Airports, Aviation safety, Reporting and recordkeeping requirements.

The Amendment

Accordingly, the FAA amends Chapter 1 of Title 14 of the Code of Federal Regulations as follows:

PART 139—CERTIFICATION OF AIRPORTS

1. The authority citation for part 139 continues to read as follows:

Authority: 49 U.S.C. 106(g), 40113, 44701-44706, 44709, 44719.

2. Amend Part 139 by correcting all references to the word “shall” to read “must” in the following locations:

a. Section 139.7;

b. The introductory language of § 139.103;

c. Section 139.105;

d. The second and third sentences of § 139.113;

e. The introductory language of paragraph (b) and paragraph (c) of § 139.201;

f. Paragraphs (a) and (b) of § 139.203;

g. Paragraph (b) of § 139.205;

h. The introductory language of § 139.301;

i. The introductory language, the second and third sentences of paragraph (c), and the second sentence of paragraph (d) of § 139.303;

j. The introductory language of paragraph (a) and paragraphs (a)(1) through (a)(6) of § 139.305;

k. The introductory language of paragraph (a) and paragraphs (a)(1) through (a)(3) of § 139.307;

l. The introductory language of paragraphs (a) and (b) and paragraphs (b)(1) through (b)(4) of § 139.309;

m. The introductory language of paragraphs (a) and (b); paragraphs (b)(2) and (3); the first and second sentences of paragraph (c); and paragraphs (d), (e), and (g) of § 139.311;

n. Paragraph (a) and the introductory language of paragraph (b) of § 139.313;

o. The first and second sentences of the introductory language of paragraph (f), paragraph (f)(2), and paragraphs (i) and (k) of § 139.317;

p. Paragraphs (a) and (b); the introductory language of paragraphs (d) through (g); paragraphs (g)(1) and (2); the first, second, and third sentences of paragraph (g)(3); the introductory language of paragraph (h); the introductory language of paragraph (h)(2); paragraphs (h)(2)(i) and (ii); the introductory language of paragraph (i); the second and third sentences of paragraph (i)(2); paragraph (i)(3); the second and third sentences of paragraph (i)(4); paragraph (i)(5); and paragraphs (j), (k), and (m) of § 139.319;

q. The first and second sentences of paragraphs (a) and (b), paragraph (c) in two places, paragraph (d), the introductory language of paragraph (e), the first and second sentences of paragraph (e)(1), paragraph (e)(2), and the first and second sentences of paragraphs (f) and (g) of § 139.321;

r. The first and second sentences of the introductory language of paragraph (a); paragraph (e); the first and third sentences of paragraph (f); the introductory language of paragraph (g); and paragraphs (h), (i), and (k) of § 139.325;

s. The introductory language of paragraphs (a), (b), (b)(3), and (c) of § 139.327;

t. The introductory language and the second sentences of paragraph (f)(1) and (2) of § 139.329;

u. The first sentence of § 139.331;

v. The introductory language of § 139.333;

w. The introductory language of paragraph (a) of § 139.335;

x. Paragraph (a) and the introductory language of paragraphs (b) through (e) of § 139.337;

y. The introductory language and paragraph (d) of § 139.339;

z. The introductory language of paragraph (a) of § 139.341; and

aa. Section 139.343.

Issued in Washington, DC, on April 27, 2004.
Donald P. Byrne,
Assistant Chief Counsel for Regulations.

[FR Doc. 04-9912 Filed 4-30-04; 8:45 am]

BILLING CODE 4910-13-P